DEPARTMENT OF JUSTICE

[AAG/A Order No. 260-2002]

Privacy Act of 1974; System of Records

Pursuant to the Privacy Act of 1974 (5 U.S.C. 552a), notice is given that the Federal Bureau of Prisons (Bureau) proposes to modify a system of records. Specifically:

The “Access Control Entry/Exit System, JUSTICE/BOP-010” (last published on October 4, 1995 (60 FR 52013)).

The system has been only slightly revised to expand the categories of records to specifically include testing data for drugs, explosives, weapons, and other contraband. One Routine Use has been revised and a new Routine Use added. The storage description has been expanded to include compact discs (CDs). This modified system will be effective sixty (60) days from [the publication date].

Title 5 U.S.C. 552a (e)(4) and (11) provide that the public be provided a 30-day period in which to comment. The Office of Management and Budget (OMB), which has oversight responsibilities under the Privacy Act, requires that it be given a 40-day period in which to review the system. Therefore, please submit any comments by May 8, 2002. The public, OMB, and the Congress are invited to send written comments to Mary Cahill, Management and Planning Staff, Justice Management Division, Department of Justice, Washington, DC 20530 (1400 National Place Building).

A description of the modified system is provided below. Although there were only a few changes to the system as previously published, the entire notice is provided below for the convenience of the public.

In accordance with 5 U.S.C. 552a(r), the Department has provided a report to OMB and the Congress on the proposed modification.

Dated: March 28, 2002.
Robert F. Diegelman,
Acting Assistant Attorney General for Administration.

JUSTICE/BOP-010

SYSTEM NAME:

Access Control Entry/Exit System.

SYSTEM LOCATION:

Records may be retained at the Central Office, Regional offices, and at any of the Bureau of Prisons (Bureau) facilities. A list of these system locations may be found at 28 CFR part 503 and on the Internet at http://www.bop.gov.

CATEGORIES OF INDIVIDUALS COVERED BY THE SYSTEM:

Current and former staff, inmates now or formerly under the custody of the Attorney General or the Bureau, and all visitors to Bureau facilities, including law enforcement personnel, contractors, volunteers, and inmate visitors.

CATEGORIES OF RECORDS IN THE SYSTEM:

Information retrieved and stored by the system may include any information relative to providing safe and secure prison facilities, to protecting the prison population and/or the general public, and/or, where appropriate, to otherwise promoting the interests of effective law enforcement.

Examples include:

(a) Identification data (much of which is collected from the individual), such as the person's name, current residence, social security number, employer, place and date of birth, age, height, weight, digital image, biometric identifier information, alien registration number, driver's license number, telephone number, passport number, system-generated number, hair color, eye color, sex, race, escort of visitor into institution, and system classification of individual;

(b) other data collected from the visitor and/or from law enforcement to enable prison officials to determine the suitability/acceptability of a visitor such as: the purpose of the visit, testing data regarding drugs, explosives, weapons and/or other contraband, relationship to the inmate and information indicating whether the visitor is under investigation by law enforcement and/or has ever been convicted of a crime, probation and/or parole status, name of supervising probation/parole officer, etc.;

(c) records generated by the system to report entry/exit activity, e.g. date and time of entry/exit, entry/exit locations used; and location data, including location in the institution visited and/or movement within the institution;

(d) any related law enforcement or investigatory data, provided by third parties such as inmates, courts, and other federal, state, local, and foreign law enforcement agencies, e.g. criminal history and/or investigatory data relating to potential visitors; investigatory data otherwise developed by Bureau officials regarding any activity, or suspicious activity, which may threaten the safe and secure operation of federal correctional facilities, e.g. remarks describing a possible introduction of contraband; drug testing data; and any other information that may enable the Bureau to pursue an internal investigation on a record subject.

AUTHORITY FOR MAINTENANCE OF THE SYSTEM:

This system is established and maintained under the authority of 18 U.S.C. 3621, 4042, 5003.

PURPOSE(S):

The records in this system are maintained to better ensure the safety, security and good order of Bureau facilities; to improve staff ability to quickly account for all persons (inmates, visitors, and staff) within an institution in the event of an emergency, such as an institution disturbance or a natural disaster; to identify and, where appropriate, determine the suitability of visitors with respect to entering prison facilities; and, to more effectively prevent violations of institution policy and/or criminal activity, such as inmate escapes and the introduction of contraband. Where these efforts fail to prevent such violations, and/or where appropriate, records may be collected and used by the Bureau for internal investigations.

ROUTINE USES OF RECORDS MAINTAINED IN THE SYSTEM, INCLUDING CATEGORIES OF USERS AND THE PURPOSE OF SUCH USES:

Relevant data from this system will be disclosed as follows:

(a) To federal, state, local, foreign and international law enforcement agencies who have a need for the information to perform their duties, e.g. in the course of apprehensions, investigations, possible criminal prosecutions, civil court actions, regulatory proceedings, inmate disciplinary hearings, parole hearings, responding to emergencies, or other law enforcement activity;

(b) to federal, state, local, foreign and international law enforcement agencies in order to solicit or obtain data needed by prison officials for law enforcement purposes, e.g. to determine whether a visitor may be under investigation, have a criminal record, or otherwise be unsuitable to visit; or to obtain any information that may enable the Bureau to pursue an internal investigation pertaining to any record subject based on information developed by the Bureau;

(c) to the news media and the public pursuant to 28 CFR 50.2 unless it is determined that release of the specific information in the context of a particular case would constitute an unwarranted invasion of personal privacy;

(d) to a Member of Congress or staff acting upon the Member's behalf when the Member or staff requests the information on behalf of and at the request of the individual who is the subject of the record;

(e) to the National Archives and Records Administration (NARA) and to the General Services Administration in records management inspections conducted under the authority of 44 U.S.C. 2904 and 2906;

(f) to a court or adjudicative body before which the Department of Justice or the Bureau is authorized to appear when any of the following is a party to litigation or has an interest in litigation and such records are determined by the Bureau to be arguably relevant to the litigation: (1) The Bureau, or any subdivision thereof, or (2) any Department or Bureau employee in his or her official capacity, or (3) any Department or Bureau employee in his or her individual capacity where the Department has agreed to provide representation for the employee, or (4) the United States, where the Bureau determines that the litigation is likely to affect it or any of its subdivisions;

(g) in an appropriate proceeding before a court or administrative or regulatory body when records are determined by the Department of Justice to be arguably relevant to the proceeding, including federal, state, and local licensing agencies or associations which require information concerning the suitability or eligibility of an individual for a license or permit;

(h) to contractors, grantees, experts, consultants, students, and others performing or working on a contract, service, grant, cooperative agreement, or other assignment for the Federal Government, when necessary to accomplish an agency function related to this system of records;

(i) to any person or entity to the extent necessary to prevent immediate loss of life or serious bodily injury; and

(j) pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and or consultation assistance from the former employee regarding a matter within that person's former area of responsibility.

POLICIES AND PRACTICES FOR STORING, RETRIEVING, ACCESSING, RETAINING, AND DISPOSING OF RECORDS IN THE SYSTEM:

STORAGE:

Information maintained in the system is stored in electronic media in Bureau facilities via a configuration of personal computer, client/server, and mainframe systems architecture. Computerized records are maintained on hard disks, floppy diskettes, compact discs (CDs), magnetic tape and/or optical disks. Documentary records are maintained in manual file folders and/or index card files.

RETRIEVABILITY:

Records are retrievable by identifying data, including last name, inmate register number, system classification category, Social Security number, alien registration number, system-generated identification number, passport number, employee badge number and/or miscellaneous identification number as provided by the visitor and/or other law enforcement agencies.

SAFEGUARDS:

Information is safeguarded in accordance with Bureau rules and policy governing automated information systems security and access. These safeguards include the maintenance of records and technical equipment in restricted areas, and the required use of proper passwords and user identification codes to access the system. Similarly, paper records are stored in secured areas to prevent unauthorized access. Only those Bureau personnel who require access to perform their official duties may access the records described in this system of records.

RETENTION AND DISPOSAL:

Records generated by the system to report entry/exit and internal movement activities are retained in accordance with General Records Schedule (GRS) 18. All other records in the system of records are retained until such time as the records no longer serve the purpose described by this system of records. At such time, these records (including investigatory records and/or records relating to disciplinary hearings and/or other appropriate personnel actions) may be incorporated into an appropriate, published BOP system of records with an approved retention schedule, or destroyed. Computerized records are destroyed by shredding, degaussing, etc., and documentary records are destroyed by shredding.

SYSTEM MANAGER(S) AND ADDRESS:

Assistant Director, Information, Policy, and Public Affairs Division, Federal Bureau of Prisons, 320 First Street NW., Washington, DC 20534.

NOTIFICATION PROCEDURE:

Inquiries concerning this system should be directed to the System Manager listed above.

RECORD ACCESS PROCEDURES:

All requests for records may be made by writing to the Director, Federal Bureau of Prisons, 320 First Street NW., Washington, DC 20534, and should be clearly marked “Privacy Act Request.” This system is exempt, under 5 U.S.C. 552a (j)(2) or (k)(2), from some access. A determination as to exemption shall be made at the time a request for access is received.

CONTESTING RECORD PROCEDURES:

Same as above.

RECORD SOURCE CATEGORIES:

Records are generated by: (1) Individuals covered by the system; (2) federal, state, local, tribal, foreign and international law enforcement agencies; and (3) federal and state probation and judicial offices.

SYSTEM EXEMPTED FROM CERTAIN PROVISIONS OF THE ACT:

Pursuant to 5 U.S.C. 552a(j)(2) or (k)(2), the Attorney General has exempted this system from subsections (c)(3) and (c)(4), (d), (e)(1), (e)(2), (e)(3), (e)(5) and (e)(8), and (g) of the Privacy Act. Rules have been promulgated in accordance with the requirements of 5 U.S.C. 553(b), (c) and (e) and may be found at 28 CFR part 16.97 (c) and (d).

[FR Doc. 02-8424 Filed 4-5-02; 8:45 am]

BILLING CODE 4410-05-P